DEPARTMENT OF JUSTICE

Notice of Lodging Proposed Consent Decree

In accordance with Departmental Policy, 28 CFR 50.7, notice is hereby given that a proposed Consent Decree in United States v. Frank Acierno and Christiana Excavating Co., Inc., D. Del., Civil Action No. 03-020, was lodged with the United States District Court for the District of Delaware on December 15, 2003.

This proposed Consent Decree concerns a complaint filed by the United States against Frank Acierno and Christiana Excavating Company, Inc., pursuant to Section 301(a) of the Clean Water Act, 33 U.S.C. 1311(a), to obtain injunctive relief from, and impose civil penalties against the Defendants for violating the Clean Water Act by discharging pollutants without a permit into waters of the United States. The proposed Consent Decree resolves these allegations by requiring that Defendant Frank Acierno pay a civil penalty and fund supplemental environmental projects.

The Department of Justice will accept written comments relating to this proposed Consent Decree for thirty (30) days from the date of publication of this Notice. Please address comments to Patricia C. Hannigan, Assistant United States Attorney, 1007 Orange Street, Suite 700, P.O. Box 2046, Wilmington, Delaware, 19899-2046, and refer to United States v. Frank Acierno and Christiana Excavating Company, Inc.

The proposed Consent Decree may be examined at the Clerk's Office, United States District Court for the District of Delaware, 844 King Street, Room 3124, Wilmington, Delaware 19801. In addition, the proposed Consent Decree may be viewed at http://www.usdoj.gov/enrd/open.html.

Russell M. Young,
Assistant Chief, Environmental Defense Section, Environment and Natural Resources Division, United States Department of Justice.

[FR Doc. 04-7901 Filed 4-6-04; 8:45 am]

BILLING CODE 4410-15-M